INTERNATIONAL TRADE COMMISSION

[Investigation No. TA-201-73]

Steel

AGENCY: United States International Trade Commission.

ACTION: Scheduling of public hearings for the remedy phase of the investigation.

SUMMARY: This notice sets forth the schedule for the public hearings to be conducted during the remedy phase of the Commission's investigation. For further information concerning the conduct of this investigation, hearing procedures, and rules of general application, consult the Commission's Rules of Practice and Procedure, part 201, subparts A through E (19 CFR part 201), and part 206, subparts A and B (19 CFR part 206).

EFFECTIVE DATE: October 23, 2001.

FOR FURTHER INFORMATION CONTACT: Vera Libeau (202-205-3176), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. Media should contact Peg O'Laughlin (202-205-1819), Office of External Relations. General information concerning the Commission may also be obtained by accessing its internet server (http://www.usitc.gov). The public record for this investigation may be viewed on the Commission's electronic docket (EDIS-ON-LINE) at http://dockets.usitc.gov/eol/public.

SUPPLEMENTARY INFORMATION:

Background

Following receipt of a request from the United States Trade Representative on June 22, 2001, the Commission instituted investigation No. TA-201-73 under section 202 of the Trade Act of 1974 (19 U.S.C. 2252) to determine whether certain steel products¹ are being imported into the United States in such increased quantities as to be a substantial cause of serious injury, or the threat thereof, to the domestic industry producing an article like or directly competitive with the imported article.² On October 22, 2001, the Commission made an affirmative determination or was equally divided with respect to the products identified below.

¹ The June 22, 2001, request letter from the United States Trade Representative and the accompanying annexes listing the covered products by HTS categories are on the Commission's website (http://www.usitc.gov).

² On July 26, 2001, the Commission received a resolution from the Committee on Finance of the United States Senate for an investigation of steel products with the same scope. Pursuant to section 603 of the Trade Act, the Commission consolidated the investigation requested by the Committee with the ongoing investigation.

Hearings on Remedy

The following tabulation shows the dates and starting times of the hearings to be held in connection with the remedy phase of this investigation, the product(s) or issues to be addressed, the time allotted to parties for their presentations, and the filing deadlines for the list of witnesses to appear at the hearings. Commission rule 201.13(d) will be strictly enforced.

Oral testimony and written materials to be submitted at the hearings are governed by sections 201.6(b)(2) and 201.13(f) of the Commission's rules. Parties must submit any request to present a portion of their hearing testimony in camera no later than 7 days prior to the dates of the hearings.

Written Submissions

Each party is encouraged to submit a prehearing brief to the Commission. Regardless of the product, the deadline for filing prehearing briefs on remedy is October 29, 2001. Parties may also file posthearing briefs. The deadlines for filing posthearing briefs on remedy are as follows: November 13, 2001, for briefs regarding products and issues addressed at the November 6 hearing; November 14, 2001, for briefs regarding products and issues addressed at the November 8 hearing; and November 15, 2001, for briefs regarding products and issues addressed at the November 9 hearing. In addition, any person who has not entered an appearance as a party to the investigation may submit a written statement of information pertinent to the consideration of remedy by November 15, 2001. All written submissions must conform with the provisions of section 201.8 of the Commission's rules; any submissions that contain confidential business information must also conform with the requirements of section 201.6 of the Commission's rules. The Commission's rules do not authorize filing of submissions with the Secretary by facsimile or electronic means.

Date of hearing | Starting time | Product(s)/issues to be addressed and time allocations | Deadline to file list of witnesses
Tuesday, November 6, 2001 | 9:30 a.m | Opening arguments 5 minutes: Parties in support of relief 5 minutes: Parties in opposition to relief | November 1.
|  | Carbon and alloy steel slabs; plate; hot-rolled sheet, strip, and coils; cold-rolled sheet and strip other than grain-oriented electrical steel; corrosion-resistant and other coated sheet and strip; and tin mill products 60 minutes: Parties in support of relief 60 minutes: Parties in opposition to relief
Thursday, November 8, 2001 | 9:30 a.m | Opening arguments 5 minutes: Parties in support of relief 5 minutes: Parties in opposition to relief | November 5.
|  | Carbon and alloy steel hot-rolled bar and light shapes; cold-finished bar; and rebar 45 minutes: Parties in support of relief 45 minutes: Parties in opposition to relief
|  | Opening arguments 5 minutes: Parties in support of relief 5 minutes: Parties in opposition to relief
|  | Carbon and alloy steel welded tubular products other than oil country tubular goods; and flanges, fittings, and tool joints 45 minutes: Parties in support of relief 45 minutes: Parties in opposition to relief
Friday, November 9, 2001 | 9:30 a.m | Opening arguments 5 minutes: Parties in support of relief 5 minutes: Parties in opposition to relief | November 6.
|  | Stainless steel bar and light shapes; stainless steel rod; tool steel; stainless steel wire; and stainless steel flanges and fittings 60 minutes: Parties in support of relief 60 minutes: Parties in opposition to relief

In accordance with section 201.16(c) of the Commission's rules, each document filed by a party to the investigation must be served on all other parties to the investigation (as identified by the service list), and a certificate of service must be timely filed. The Secretary will not accept a document for filing without a certificate of service.

Authority: This investigation is being conducted under the authority of section 202 of the Trade Act of 1974; this notice is published pursuant to section 206.3 of the Commission's rules.

By order of the Commission.
Issued: October 24, 2001.
Donna R. Koehnke,
Secretary.

[FR Doc. 01-27133 Filed 10-25-01; 8:45 am]

BILLING CODE 7020-02-P